DEPARTMENT OF COMMERCE

International Trade Administration

[A-570-878]

Saccharin from the People's Republic of China: Final Results of the 2005-2006 Antidumping Duty Administrative Review

AGENCY: Import Administration, International Trade Administration, Department of Commerce.

SUMMARY: On May 4, 2007, the Department of Commerce (“Department”) published Saccharin from the People's Republic of China: Preliminary Results of the 2005 2006 Antidumping Duty Administrative Review, 72 FR 25247 (May 4, 2007) (“Preliminary Results”). The period of review (“POR”) is July 1, 2005, through June 30, 2006. The administrative review covers one respondent, Shanghai Fortune Chemical Co., Ltd. (“Shanghai Fortune”).

We invited interested parties to comment on our Preliminary Results. Based on our analysis of the comments received, we made certain changes to our calculations. The final dumping margin for the administrative review is listed in the “Final Results of the Review” section, below.

EFFECTIVE DATE: September 11, 2007.

FOR FURTHER INFORMATION CONTACT: Frances Veith or Blanche Ziv, AD/CVD Operations, Office 8, Import Administration, International Trade Administration, U.S. Department of Commerce, 14th St. and Constitution Avenue, NW, Washington, DC 20230; telephone: (202) 482-4295 or (202) 482-4207, respectively.

SUPPLEMENTARY INFORMATION:

Background

On May 4, 2007, the Department published the Preliminary Results of the 2005-2006 administrative review of the antidumping duty order on saccharin from the People's Republic of China (“PRC”). Since the publication of the Preliminary Results, the following events have occurred.

On May 24, 2007, the Department received a submission on surrogate value data from Shanghai Fortune.¹ In the Preliminary Results, we stated that any interested party may request a hearing and may submit briefs or written comments within 30 days of publication of the Preliminary Results notice in the Federal Register, and may submit rebuttal briefs, limited to the issues raised in the case briefs, five days subsequent to the due date of the case briefs. See Preliminary Results, 72 FR at 25252. On June 4, 2007, the Department received a case brief from Shanghai Fortune.² However, we did not receive any hearing requests or rebuttal briefs on the Preliminary Results.

¹ See Letter from Shanghai Fortune regarding, “Saccharin from the People's Republic of China: Submission of Publicly Available Data For Use As Surrogate Values,” dated May 24, 2007.

² See Letter from Shanghai Fortune regarding, “Saccharin from the People's Republic of China: Case Brief of Shanghai Fortune Chemical Company, Ltd.,” dated June 4, 2007.

We conducted this review in accordance with sections 751 and 777(i)(1) of the Tariff Act of 1930, as amended (“the Act”), and 19 CFR 351.213 and 351.221.

Period of Review

The POR is July 1, 2005, through June 30, 2006.

Scope of the Order

The product covered by this antidumping duty order is saccharin. Saccharin is defined as a non-nutritive sweetener used in beverages and foods, personal care products such as toothpaste, table top sweeteners, and animal feeds. It is also used in metalworking fluids. There are four primary chemical compositions of saccharin: (1) Sodium saccharin (American Chemical Society Chemical Abstract Service (“CAS”) Registry 128-44-44); (2) calcium saccharin (CAS Registry 6485-34-34); (3) acid (or insoluble) saccharin (CAS Registry 81-07-07); and (4) research grade saccharin. Most of the U.S.-produced and imported grades of saccharin from the PRC are sodium and calcium saccharin, which are available in granular, powder, spray-dried powder, and liquid forms. The merchandise subject to this order is currently classifiable under subheading 2925.11.00 of the Harmonized Tariff Schedule of the United States (“HTSUS”) and includes all types of saccharin imported under this HTSUS subheading, including research and specialized grades. Although the HTSUS subheading is provided for convenience and customs purposes, the Department's written description of the scope of this order remains dispositive.

Analysis of Comments Received

All issues raised in the case brief filed by Shanghai Fortune in this review are addressed in the Memorandum from Stephen J. Claeys, Deputy Assistant Secretary for Import Administration, to David M. Spooner, Assistant Secretary for Import Administration, “Issues and Decision Memorandum for the 2005-2006 Administrative Review of Saccharin From the People's Republic of China,” dated concurrently with this notice (“Issues and Decision Memo”), which is hereby adopted by this notice. A list of the issues raised by Shanghai Fortune and to which we have responded in the Issues and Decision Memo follows as an appendix to this notice. The Issues and Decision Memo is a public document which is on file in the Central Records Unit (“CRU”) in room B-099 of the main Department building, and is also accessible on the Web at <http://ia.ita.doc.gov/frn/>. The paper copy and electronic version of the Issues and Decision Memo are identical in content.

Changes Since the Preliminary Results

Based on our analysis of comments received from Shanghai Fortune and information on the record of this review, we made changes to the margin calculations as noted below.

For the final results, we have made changes to the surrogate values for aqueous ammonia and steam coal. For further details, see the Issue and Decision Memo at Comments 1 and 3, the Shanghai Fortune Analysis Memo³ and the Final Surrogate Value Memo.⁴

³ See Memorandum to the file through Blanche Ziv, Program Manager, NME Group/Office 8, Import Administration, from Ann Fornaro, International Trade Analyst, NME Group/Office 8, Import Administration, regarding, “Analysis for the Final Results of the 2005-2006 Administrative Review of the Antidumping Duty Order on Saccharin from the People's Republic of China: Shanghai Fortune Chemical Co., Ltd.,” dated concurrently with this notice (“Shanghai Fortune Analysis Memo”).

⁴ See Memorandum to the file through Blanche Ziv, Program Manager, AD/CVD Operations, Office 8, from Frances Veith, International Trade Compliance Analyst, AD/CVD Operations, Office 8, regarding, “2005-2006 Antidumping Duty Order Administrative Review of Saccharin from the People's Republic of China: Surrogate Values for the Final Results,” dated concurrently with this notice (“Final Surrogate Value Memo”).

Final Results of the Review

We determine that the final weighted-average dumping margin for Shanghai Fortune for the period July 1 2005, through June 30, 2006, is zero percent. The Department will disclose calculations performed for the final results to the parties within five days of the date of publication of this notice in accordance with 19 CFR 351.224(b).

Assessment Rates

The Department has determined, and U.S. Customs and Border Protection (“CBP”) shall assess, antidumping duties on all appropriate entries covered by this review. The Department intends to issue assessment instructions to CBP 15 days after publication of the final results of the review. In accordance with 19 CFR 351.212(b)(1), for Shanghai Fortune, we calculated an exporter/importer (or customer)-specific assessment rate for the merchandise subject to this review. We calculated a per-unit assessment rate by aggregating the antidumping duties due for all U.S. sales to each importer (or customer) and dividing this amount by the total quantity sold to that importer (or customer). See 19 CFR 351.212(b)(1). Where an importer's ad valorem rate or a customer-specific per-unit rate is zero or de minimis, we will instruct CBP to liquidate appropriate entries without regard to antidumping duties. See 19 CFR 351.106(c)(2).

Cash-Deposit Requirements

The following cash deposit rates will be effective upon publication of the final results of this administrative review for all shipments of the subject merchandise entered, or withdrawn from warehouse, for consumption on or after the publication date, as provided for by section 751(a)(2)(C) of the Act: (1) the cash deposit rate for Shanghai Fortune, which has a separate rate, is zero percent; (2) the cash deposit rate for previously investigated or reviewed PRC and non-PRC exporters who received a separate rate in a prior segment of the proceeding (which were not reviewed in this segment of the proceeding) will continue to be the rate assigned in that segment of the proceeding; (3) the cash deposit rate for all PRC exporters of subject merchandise that have not been found to be entitled to a separate rate, the cash deposit rate will be the PRC-wide rate of 329.33 percent; and (4) the cash deposit rate for all non-PRC exporters of subject merchandise which have not received their own rate, will be the rate applicable to the PRC exporters that supplied that non-PRC exporter. These requirements shall remain in effect until further notice.

Notification to Interested Parties

This notice serves as a final reminder to importers of their responsibility under 19 CFR 351.402(f)(2) to file a certificate regarding the reimbursement of antidumping duties prior to liquidation of the relevant entries during this review period. Pursuant to 19 CFR 351.402(f)(3), failure to comply with this requirement could result in the Secretary's presumption that reimbursement of antidumping duties occurred and the subsequent assessment of doubled antidumping duties.

This notice also serves as a reminder to parties subject to administrative protective order (“APO”) of their responsibility concerning the disposition of proprietary information disclosed under APO, in accordance with 19 CFR 351.305 and as explained in the APO itself. Timely written notification of the return/destruction of APO materials or conversion to judicial protective order is hereby requested. Failure to comply with the regulations and the terms of an APO is a sanctionable violation.

This notice of final results of the administrative review is issued and published in accordance with sections 751(a)(1) and 777(i)(1) of the Act.

Dated: September 4, 2007.
David M. Spooner,
Assistant Secretary for Import Administration.

Appendix

List of Comments and Issues in the Issues and Decisions Memorandum

Comment 1 Valuation of Aqueous Ammonia

Comment 2 Valuation of Sulfur Dioxide

Comment 3 Valuation of Steam Coal

[FR Doc. E7-17851 Filed 9-10-07; 8:45 am]

BILLING CODE 3510-DS-S